COMMITTEE FOR THE IMPLEMENTATION OF TEXTILE AGREEMENTS

Amendment of Export Visa Requirements for Textiles and Textile Products Integrated into GATT 1994 in the Third Stage

November 29, 2001.

AGENCY: Committee for the Implementation of Textile Agreements (CITA).

ACTION: Issuing a Directive to the Commissioner of Customs amending export visa requirements.

EFFECTIVE DATE: January 1, 2002

FOR FURTHER INFORMATION CONTACT: Lori Mennitt, International Trade Specialist, Office of Textiles and Apparel, U.S. Department of Commerce, (202) 482-3400.

SUPPLEMENTARY INFORMATION: The World Trade Organization (WTO) Agreement on Textiles and Clothing provides for the staged integration of textiles and textile products into the General Agreement on Tariffs and Trade (GATT) 1994. The third stage of the integration will take place on January 1, 2002. The products to be integrated on January 1, 2002 were announced on April 26, 1995 (see 60 FR 21075, published on May 1, 1995).

This directive does not affect textile visas that may be required under the African Growth and Opportunity Act (AGOA).

The United States will not maintain visa requirements on textiles and textile products integrated on January 1, 2002 that are produced or manufactured in a WTO Member country. In the letter published below, the Chairman of CITA directs the Commissioner of Customs to eliminate existing visa requirements for textiles and textile products integrated on January 1, 2002 and exported on or after that date, produced or manufactured in a WTO Member country. Existing visa requirements will be maintained for goods exported prior to January 1, 2002 and for goods that are not produced or manufactured in a WTO Member country.

A description of the textile and apparel categories in terms of HTS numbers is available in the CORRELATION: Textile and Apparel Categories with the Harmonized Tariff Schedule of the United States (see Federal Register notice 65 FR 82328, published on December 28, 2000). Information regarding the availability of the 2002 CORRELATION will be published in the Federal Register at a later date.

D. Michael Hutchinson,
Acting Chairman, Committee for the Implementation of Textile Agreements.

Committee for the Implementation of Textile Agreements

November 29, 2001.

Commissioner of Customs

Department of the Treasury, Washington, DC 20229

Dear Commissioner: Pursuant to Section 204 of the Agricultural Act of 1956, as amended (7 U.S.C. 1854); Executive Order 11651 of March 3, 1972, as amended; and the World Trade Organization (WTO) Agreement on Textiles and Clothing, you are directed to amend the current visa requirements for certain textiles and textile products produced or manufactured in WTO Member countries and exported on or after January 1, 2002.

Effective on January 1, 2002, for goods exported on and after that date, export visas will not be required for textiles and textile products produced or manufactured in a WTO Member country and integrated into the General Agreement on Tariffs and Trade (GATT) 1994 on January 1, 2002.

The following entire textile categories will be integrated on January 1, 2002: 222, 223, 350, 431, 464, 600, 606, 607, 621, 622, 649, 650, 670, 800, 810, 831, 833, 834, 835, 836, 838, 840, 842, 843, 844, 847, 850, 851, 858, 870, and 871.

The following partial textile categories will be integrated on January 1, 2002: 331, 359, 369, 459, 469, 631, 659, 666, 669, and 859. A complete list of products in the partially integrated categories is attached to this letter. This listing is based on the 2001 Harmonized Tariff Schedule of the United States.

Export visas will continue to be required for non-integrated products, for products integrated on January 1, 2002 produced or manufactured in a country that is not a Member of the World Trade Organization, and for products integrated on January 1, 2002 that were exported prior to that date.

D. Michael Hutchinson,

Acting Chairman, Committee for the Implementation of Textile Agreements.

Part Categories in Stage 3

Category | HTS (2001)
331 | 6116101720
331 | 6116104810
331 | 6116105510
331 | 6116107510
331 | 6116926410
331 | 6116926420
331 | 6116926430
331 | 6116926440
331 | 6116927450
331 | 6116927460
331 | 6116927470
331 | 6116928800
331 | 6116929400
331 | 6116999510
359 | 6115198010
359 | 6117106010
359 | 6117209010
359 | 6203221000
359 | 6204221000
359 | 6212900010
359 | 6214900010
359 | 6505901525
359 | 6505901540
359 | 6505902060
359 | 6505902545
369 | 4202124000
369 | 4202128020
369 | 4202128060
369 | 4202224020
369 | 4202224500
369 | 4202228030
369 | 4202324000
369 | 4202329530
369 | 4202921500
369 | 4202923016
369 | 4202926091
369 | 5805003000
369 | 5807100510
369 | 5807900510
369 | 6301300010
369 | 6301300020
369 | 6302511000
369 | 6302512000
369 | 6302513000
369 | 6302514000
369 | 6302600010
369 | 6302600030
369 | 6302910005
369 | 6302910025
369 | 6302910045
369 | 6302910050
369 | 6302910060
369 | 6303110000
369 | 6303910010
369 | 6303910020
369 | 6304910020
369 | 6304920000
369 | 6305200000
369 | 6306110000
369 | 6307101020
369 | 6307101090
369 | 6307903010
369 | 6307904010
369 | 6307905010
369 | 6307908910
369 | 6307908945
369 | 6307909905
369 | 6307909982
369 | 9404901000
369 | 9404908040
369 | 9404909505
459 | 6115198020
459 | 6117101000
459 | 6117102010
459 | 6117209020
459 | 6212900020
459 | 6214200000
469 | 6304193040
469 | 6304910050
469 | 6304991500
469 | 6304996010
469 | 6308000010
631 | 6116101730
631 | 6116104820
631 | 6116105520
631 | 6116107520
631 | 6116938800
631 | 6116939400
631 | 6116994800
631 | 6116995400
631 | 6116999530
659 | 6115110010
659 | 6115122000
659 | 6117102030
659 | 6117209030
659 | 6212900030
659 | 6214300000
659 | 6214400000
666 | 5805004010
666 | 6301100000
666 | 6301400010
666 | 6301400020
666 | 6301900010
666 | 6302530010
666 | 6302530020
666 | 6302530030
666 | 6302931000
666 | 6302932000
666 | 6303120000
666 | 6303190010
666 | 6303921000
666 | 6303922010
666 | 6303922020
666 | 6303990010
666 | 6304112000
666 | 6304191500
666 | 6304192000
666 | 6304910040
666 | 6304930000
666 | 6304996020
666 | 6307909984
666 | 9404908522
666 | 9404909522
669 | 5807100520
669 | 5807900520
669 | 5810929030
669 | 6305320010
669 | 6305320020
669 | 6305330010
669 | 6305330020
669 | 6305390000
669 | 6306120000
669 | 6306190010
669 | 6306229030
669 | 6307903020
669 | 6307904020
669 | 6307905020
669 | 6308000020
859 | 6115198040
859 | 6117106020
859 | 6212105030
859 | 6212109040
859 | 6212200030
859 | 6212300030
859 | 6212900090
859 | 6214102000
859 | 6214900090

[FR Doc.01-30051 Filed 12-4-01; 8:45 am]

BILLING CODE 3510-DR-S